INTERNATIONAL TRADE COMMISSION

[Investigation No. 337-TA-831]

Certain Electronic Devices for Capturing and Transmitting Images, and Components Thereof; Commission Determination Not To Review an Initial Determination Terminating the Investigation; Termination of the Investigation

AGENCY: U.S. International Trade Commission.

ACTION: Notice.

SUMMARY: Notice is hereby given that the U.S. International Trade Commission has determined not to review an initial determination (“ID”) (Order No. 47) of the presiding administrative law judge (“ALJ”) terminating the investigation.

FOR FURTHER INFORMATION CONTACT: Amanda S. Pitcher, Esq., Office of the General Counsel, U.S. International Trade Commission, 500 E Street SW., Washington, DC 20436, telephone (202) 205-2737. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on February 27, 2012, based on a complaint filed by Eastman Kodak Company of Rochester, New York. 77 FR 11588-89 (Feb. 27, 2012). The complaint alleges a violation of section 337 by reason of infringement of certain claims of U.S. Patent Nos. 7,210,161; 7,742,084; 7,453,605; 7,936,391; and 6,292,218 by certain electronic devices for capturing and transmitting images, and components thereof. The complaint further alleges that an industry in the United States exists as required by subsections (a)(2) and (3) of section 337. The Notice of Institution named as respondents Apple Inc. of Cupertino, California; High Tech Computer Corp. a/k/a HTC Corp. of Taoyuan, Taiwan; HTC America, Inc. of Bellevue, Washington; and Exedea, Inc. of Houston, Texas.

On February 12, 2013, the ALJ issued the subject ID, terminating the investigation pursuant to Commission Rule 210.21 for good cause. None of the parties petitioned for review of the ID.

The Commission has determined not to review the ID.

The authority for the Commission's determination is contained in section 337 of the Tariff Act of 1930, as amended (19 U.S.C. 1337), and in section 210.42 of the Commission's Rules of Practice and Procedure (19 CFR 210.42).

By order of the Commission.
Issued: March 11, 2013.
Lisa R. Barton,
Acting Secretary to the Commission.

[FR Doc. 2013-05995 Filed 3-14-13; 8:45 am]

BILLING CODE 7020-02-P